FEDERAL COMMUNICATIONS COMMISSION

Sunshine Act Meeting; Open Commission Meeting; Thursday May 31, 2007

The Federal Communications Commission will hold an Open Meeting on the subject listed below on Thursday, May 31, 2007, which is scheduled to commence at in Room TW-C305, at 445 12th Street, SW., Washington, DC.

Item No. | Bureau | Subject
1 | Public Safety & Homeland Security | Title: Recommendations of the Independent Panel Reviewing the Impact of Hurricane Katrina on Communications Networks (EB Docket No. 06-119, WC Docket No. 06-63).
|  | Summary: The Commission will consider an Order concerning recommendations submitted by the Independent Panel Reviewing the Impact of Hurricane Katrina on Communications Networks.
2 | Public Safety & Homeland Security | Title: Revision of the Commission's Rules to Ensure Compatibility with Enhanced 911 Emergency Calling Systems (CC Docket No. 94-102); Association of Public-Safety Communications Officials-International, Inc. Request for Declaratory Ruling; Wireless E911 Location Accuracy Requirements; E911 Requirements for IP-Enabled Service Providers (WC Docket No. 05-196).
|  | Summary: The Commission will consider a Notice of Proposed Rulemaking concerning wireless Enhanced 911 location accuracy and automatic location identification for interconnected Voice over Internet Protocol (VoIP) services.
3 | Public Safety & Homeland Security | Title: Review of the Emergency Alert Systems (EB Docket No. 04-296); Independent Spanish Broadcasters Association, the Office of Communication of the United Church of Christ, Inc., and the Minority Media and Telecommunications Council, Petition for Immediate Relief.
|  | Summary: The Commission will consider a Second Report and Order concerning the promotion of Next Generation EAS.
4 | Consumer & Governmental Affairs | Title: IP-Enabled Services (WC Docket No. 04-36); Implementation of Sections 255 and 251 (a)(2) of the Communications Act of 1934, as Enacted by the Telecommunications Act of 1996: Access to Telecommunications Service, Telecommunications Equipment and Customer Premises Equipment by Persons with Disabilities (WT Docket No. 96-198); Telecommunications Relay Services and Speech-to-Speech Services for Individuals with Hearing and Speech Disabilities (CG Docket No. 03-123).
|  | Summary: The Commission will consider a Report and Order regarding revisions to its disability access rules under section 255 and to its Telecommunications Relay Services rules under section 225 of the Communications Act of 1934 to interconnected Voice over Internet Protocol providers.
5 | Media and Wireline Competition | Title: Telecommunications Services Inside Wiring Customer Premises Equipment (CS Docket No. 95-184); Implementation of the Cable Television Consumer Protection and Competition Act of 1992: Cable Home Wiring (MM Docket No. 92-260); and Clarification of the Commission's Rules and Policies Regarding Unbundled Access to Incumbent Local Exchange Carriers' Inside Wire Subloop (WC Docket No. 01-338).
|  | Summary: The Commission will consider a Report and Order and Declaratory Ruling defining physically inaccessible cable wiring as well as requesting carrier rights to access inside wire subloops in multiunit premises.
6 | Media | Title: Amendment to Broadcast Carriage Rules for Cable Operators and Satellite Carriers; 47 CFR 76.56, 76.59, and 76.66.
|  | Summary: The Commission will consider a Notice of Proposed Rulemaking concerning market modifications for purpose of satellite and cable carriage of television broadcast stations.

Open captioning will be provided for this event. Other reasonable accommodations for people with disabilities are available upon request. Include a description of the accommodation you will need including as much detail as you can. Also include a way we can contact you if we need more information. Make your request as early as possible; please allow at least 5 days advance notice. Last minute requests will be accepted, but may be impossible to fill. Send an e-mail to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC's Audio/Video Events web page at http://www.fcc.gov/realaudio.

For a fee this meeting can be viewed live over George Mason University's Capitol Connection. The Capitol Connection also will carry the meeting live via the Internet. To purchase these services call (703) 993-3100 or go to http://www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Federal Communications Commission.
William F. Caton,
Deputy Secretary.

[FR Doc. 07-2685 Filed 5-25-07; 11:20 am]

BILLING CODE 6712-01-P